DEPARTMENT OF THE TREASURY

United States Mint

Notification of Price for 8-8-08 Double Prosperity Set

ACTION: Notification of Price for 8-8-08 Double Prosperity Set.

SUMMARY: The United States Mint is establishing the price for its 8-8-08 Double Prosperity Set.

Pursuant to 31 U.S.C. 5112(i) & (q), and in accordance with 31 U.S.C. 9701(b)(2)(B), the United States Mint is establishing the price of these coins.

Effective August 1, 2008, the United States Mint commenced selling the 8-8-08 Double Prosperity Set according to the following price schedule:

Description | Price
8-8-08 Double Prosperity Set | $1,228.88

FOR FURTHER INFORMATION CONTACT: Gloria C. Eskridge, Associate Director for Sales and Marketing, United States Mint, 801 Ninth Street, NW., Washington, DC 20220; or call 202-354-7500.

Dated: August 4, 2008.
Edmund C. Moy,
Director, United States Mint.

[FR Doc. E8-18298 Filed 8-7-08; 8:45 am]

BILLING CODE 4810-02-P